ENVIRONMENTAL PROTECTION AGENCY

40 CFR Part 52

[EPA-R09-OAR-2009-0359; FRL-8983-4]

Approval and Promulgation of Air Quality Implementation Plans; California; Monterey Bay Region 8-Hour Ozone Maintenance Plan

AGENCY: Environmental Protection Agency (EPA).

ACTION: Direct final rule.

SUMMARY: EPA is taking direct final action to approve a revision to the Monterey Bay Area portion of the California State Implementation Plan. Submitted by the California Air Resources Board on December 19, 2007, this plan revision consists of a maintenance plan prepared for the purpose of providing for continued attainment of the 8-hour ozone standard in Monterey Bay through the year 2014 and thereby satisfying the related requirements under Section 110(a)(1) of the Clean Air Act and EPA's phase 1 rule implementing the 8-hour ozone national ambient air quality standard. EPA is taking this action pursuant to those provisions of the Clean Air Act that obligate the Agency to take action on submittals of state implementation plans and plan revisions.

DATES: This rule is effective February 16, 2010 without further notice, unless EPA receives relevant adverse comment by January 19, 2010. If EPA receives such comment, EPA will publish a timely withdrawal in the Federal Register informing the public that this rule will not take effect.

ADDRESSES: Submit your comments, identified by [EPA-R09-OAR-2009-0359] by one of the following methods:

• Federal eRulemaking Portal: http://www.regulations.gov. Follow the on-line instructions for submitting comments.

• E-mail: Sarvy Mahdavi at mahdavi.sarvy@epa.gov. Please also send a copy by e-mail to the person listed in the FOR FURTHER INFORMATION CONTACT section below.

• Fax: Sarvy Mahdavi, Planning Office (AIR-2), at fax number (415) 947-3579.

• Mail or deliver: Sarvy Mahdavi, Air Planning Office (AIR-2), U.S. Environmental Protection Agency, Region IX, 75 Hawthorne Street, San Francisco, California 94105-3901. Hand or courier deliveries are accepted only between the hours of 8 a.m. and 4 p.m. weekdays except for legal holidays. Special arrangements should be made for deliveries of boxed information.

Instructions: All comments will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Planning Office (AIR-2), U.S. Environmental Protection Agency, Region IX, 75 Hawthorne Street, San Francisco, California 94105-3901. To inspect the hard copy materials, please schedule an appointment during normal business hours with the contact listed in the FOR FURTHER INFORMATION CONTACT section.

FOR FURTHER INFORMATION CONTACT: Sarvy Mahdavi, Planning Office (AIR-2), U.S. Environmental Protection Agency, Region IX, 75 Hawthorne Street, San Francisco, California 94105-3901, telephone (415) 972-3173; fax (415) 947-3579; e-mail address mahdavi.sarvy@epa.gov.

SUPPLEMENTARY INFORMATION: Throughout this document, the terms “we,” “us,” and “our” refer to EPA. This supplementary information is organized as follows:

Table of Contents

I. Summary of Action

II. Background

A. Regulatory Context

B. Ambient Ozone Conditions

III. Evaluation of State's Submittal

A. CAA Procedural Requirements

B. Evaluation of Ozone Maintenance Plan

1. Attainment Inventory

2. Maintenance Demonstration

3. Ambient Air Quality Monitoring

4. Verification of Continued Attainment

5. Contingency Plan

6. Conclusion

IV. Final Action and Request for Comment

V. Statutory and Executive Order Reviews

I. Summary of Action

On December 19, 2007, the California Air Resources Board (CARB) submitted to EPA, for approval as a revision to the California State Implementation Plan (“SIP”), the 2007 Federal Maintenance Plan for Maintaining the National Ozone Standard in the Monterey Bay Region (“Monterey Maintenance Plan” or “Ozone Maintenance Plan”). The Monterey Maintenance Plan was developed by the Monterey Bay Unified Air Pollution Control District (“MBUAPCD” or “Monterey Bay” or “the District”) and adopted by the District on March 21, 2007. MBUAPCD prepared the plan to provide for continued attainment of the 8-hour ozone national ambient air quality standard (NAAQS) through 2014 and to thereby satisfy the requirements of section 110(a)(1) of the Clean Air Act (“CAA” or “the Act”) and EPA's Phase 1 Rule for implementation of the 1997 8-hour ozone NAAQS (see 69 FR 23951), also known as “the Phase 1 Implementation Rule.” The December 19, 2007 SIP revision submittal includes the maintenance plan and related technical appendices, as well as documentation of notice, public hearing, and adoption by the District.

For the reasons set forth in this document, and pursuant to section 110(k) of the Act, we are approving the Ozone Maintenance Plan as a revision to the Monterey Bay portion of the California SIP.

In so doing, we find that the submitted ozone maintenance plan meets all of the applicable requirements of CAA section 110(a)(1) and our Phase 1 Implementation Rule.

II. Background

A. Regulatory Context: Monterey Bay Designation, Classification, SIPs, and Attainment

Under the Clean Air Act (CAA) as amended in 1970, EPA established national ambient air quality standards (NAAQS) for certain pervasive air pollutants, such as photochemical oxidant, carbon monoxide, and particulate matter. The NAAQS represent concentration levels below which public health and welfare are protected. The 1970 Act also required States to adopt and submit State Implementation Plans (SIPs) to implement, maintain, and enforce the NAAQS.

EPA approved the original California SIP in 1972 (see 37 FR 10850). SIP revisions are required from time-to-time to account for new or amended NAAQS or to meet other changed circumstances. The CAA was significantly amended in 1977, and under the 1977 Amendments, EPA promulgated attainment status designations for all areas of the country with respect to the NAAQS.

The CAA requires EPA to periodically review and revise the NAAQS, and in 1979, EPA established a new NAAQS of 0.12 ppm for ozone, averaged over 1 hour. This new NAAQS replaced the oxidant standard of 0.08 ppm. See 44 FR 8202 (February 8, 1979). Areas designated nonattainment for oxidant were considered to be nonattainment for ozone as well, but States could request redesignation to attainment if monitoring data showed that an area met the ozone NAAQS.

Congress significantly amended the CAA again in 1990. Under the 1990 Amendments, each area of the country that was designated nonattainment for the 1-hour ozone NAAQS, including the Monterey Bay Area, was classified by operation of law as marginal, moderate, serious, severe, or extreme nonattainment depending on the severity of the area's air quality problem. The ozone nonattainment designation for the Monterey Bay Area continued by operation of law according to section 107(d)(1)(C)(i) of the CAA, as amended in 1990. Furthermore, the area was classified by operation of law as moderate for ozone under section 181(a)(1). See 40 CFR 81.305 and 56 FR 56694 (November 6, 1991).

On July 14, 1994, California requested redesignation of the Monterey Bay Area to attainment with respect to the 1-hour ozone NAAQS and submitted an ozone maintenance SIP for the area.

EPA promulgated the 8-hour ozone NAAQS in 1997 (see 62 FR 38894 (July 18, 1997), and designated and classified areas for this standard in 2004 (see 69 FR 23857, April 30, 2004). On January 17, 1997, EPA redesignated the Monterey Bay Area from nonattainment to attainment for 1-hour ozone. EPA also approved the Monterey Bay Area Maintenance Plan, 1990 base year inventory, emission statement rule, volatile organic compound (VOC) reasonably available control technology (RACT) rule 419 and oxides of nitrogen (NOX) RACT rule 431 as revisions to California's SIP for ozone. See 62 FR 2597 (January 17, 1997).

Effective June 15, 2004, EPA designated the Monterey Bay Area as unclassifiable/attainment for the 8-hour Ozone NAAQS. See 69 FR 23890 (April 30, 2004).

Effective June 15, 2005, EPA revoked the pre-existing 1-hour NAAQS. See 69 FR 23951 (April 30, 2004). As part of this rulemaking, EPA also established certain requirements to prevent backsliding in those areas that were designated as nonattainment for the 1-hour ozone standard (or that were redesignated to “attainment” but subject to a maintenance plan, as is the case for the Monterey Bay Area) at the time of designation for the 8-hour ozone standard. These requirements are codified at 40 CFR 51.905.

B. Ambient Ozone Conditions

Monterey Bay currently monitors ozone at nine locations: Pinnacles National Monument (NM), Hollister, Scotts Valley, Carmel Valley, Salinas, King City, Watsonville, Santa Cruz, and Davenport. The District operates seven of these stations located in populated areas. The National Parks Service operates the station at Pinnacles NM, while an industry consortium operates the King City station. All monitors are State and Local Air Monitoring Stations (SLAMS), with the exception of Pinnacles and Davenport, which are Special Purpose Monitors (SPMs).

The current ozone NAAQS is met at an ambient air quality monitoring site when the three-year average of the annual fourth-highest daily maximum 8-hour ozone concentration (also referred to as the “design value”) is less than or equal to 0.08 ppm, and the standard is met within an air quality planning area when the standard is met at all of the monitoring sites.

A review of the data gathered at the various ozone monitoring sites in the Monterey Bay Area, and entered into AQS, confirms that the Monterey Bay Area is in attainment of the 8-hour ozone NAAQS. Since 1999, the highest design value at any of the ozone monitoring sites was 0.081 ppm, a value calculated for the Pinnacles NM monitor over the 2001-2003 period. The following table shows design values for EPA's 2001-2003 designation period for all nine stations in Monterey Bay monitoring network:

Station | Design value (ppm) | Within standard?
Pinnacles | 0.081 | Yes.
Hollister | 0.073 | Yes.
Carmel Valley | 0.066 | Yes.
Scotts Valley | 0.065 | Yes.
King City | 0.062 | Yes.
Salinas | 0.059 | Yes.
Watsonville | 0.057 | Yes.
Santa Cruz | 0.056 | Yes.
Davenport | 0.052 | Yes.

Based on the rounding convention in 40 CFR part 50, design values less than or equal to 0.084 ppm meet the ozone NAAQS. More recently, data through 2005 indicate that all stations continue to have design values within the standard.

III. Evaluation of State's Submittal

As noted above, EPA promulgated the 8-hour ozone NAAQS in 1997 and designated and classified areas for this standard in 2004. Additionally in 2004, as previously mentioned, EPA also published the Phase 1 Ozone Implementation Rule. See 40 CFR part 51, subpart X. Section 51.905(a)(3) and (4) established requirements for anti-backsliding purposes for areas designated unclassifiable/attainment for the 8-hour standard.

These provisions required States with such areas to submit 10-year maintenance plans under Section 110(a)(1) of the CAA if they were also nonattainment areas (or were attainment areas subject to a CAA section 175A maintenance plan) under the 1-hour ozone standard. Such plans were to be submitted as revisions to SIPs. MBUAPCD prepared this Ozone Maintenance Plan because it is an area designated unclassifiable/attainment for the 8-hour standard and an attainment area subject to a CAA section 175A maintenance plan under the 1-hour standard. See 40 CFR 51.905(a)(4).

EPA provided guidance to States regarding section 110(a)(1) ozone maintenance plans in a memorandum from Lydia N. Wegman, Director, Air Quality Strategies and Standards Division, EPA Office of Air Quality Planning and Standards, entitled, “Maintenance Plan Guidance Document for Certain 8-hour Ozone Areas Under Section 110(a)(1) of the Clean Air Act,” dated May 20, 2005 (“Wegman Memorandum”). For the contingency plan element of section 110(a)(1) maintenance plans, the Wegman Memorandum cites an EPA policy memorandum from John Calcagni, entitled, “Procedures for Processing Requests to Redesignate Areas to Attainment,” dated September 4, 1992 (“Calcagni Memorandum”).

A. CAA Procedural Requirements

Under Section 110 of the Act and EPA regulations (at 40 CFR Part 51, Subpart F), each State must provide reasonable notice and public hearing prior to adoption of SIPs and SIP revisions for subsequent submittal to EPA.

On March 13, 2007, the MBUAPCD published a public hearing announcement in the area's four largest newspapers. The public hearing was held at an MBUAPCD Board of Directors meeting on March 21, 2007. The Ozone Maintenance Plan was presented in the meeting as Agenda Item 17; there were no public comments and the plan was approved by unanimous vote of the Board.

B. Evaluation of Ozone Maintenance Plan

The 8-hour ozone 110(a)(1) maintenance plan must provide for continued maintenance of the 8-hour ozone NAAQS in the area for 10 years from the effective date of the area's designation as unclassifiable/attainment for the 8-hour ozone NAAQS. At a minimum, the maintenance plan for such areas must include the five following components: Attainment inventory, maintenance demonstration, ambient air quality monitoring, verification of continued attainment, and contingency plan. See Wegman Memorandum.

As explained below, we find that the Monterey Maintenance Plan includes all five required components of a maintenance plan, that each component is acceptable, and that the overall plan provides for continued maintenance of the 8-hour ozone NAAQS in the Monterey Bay Area through 2014 (i.e., 10 years beyond 2004, the year of the area's designation for the 8-hour ozone NAAQS).

1. Attainment Inventory

The attainment inventory should be based on actual “typical summer day” emissions of Volatile Organic Compounds (VOCs) and Oxides of Nitrogen (NOX). EPA's Phase 1 Implementation Rule provides that the 10-year maintenance period begins as of the effective date of the area's designation for the 8-hour ozone standard. For purposes of an attainment emissions inventory, the State may use one of any of the three years on which the 8-hour attainment designation was based (i.e., 2001, 2002, and 2003). The inventory should be consistent with EPA's most recent emissions inventory methods, models, and factors, and should be based on the latest planning assumptions regarding population, employment, and motor vehicle activity. See Wegman Memorandum at 4; Calcagni Memorandum at 8.

The Monterey Maintenance Plan includes an emissions inventory of VOCs and NOX for the years 1990 to 2030. The inventory was based on CARB's Version 1.06 8-hour Ozone SIP Emission Inventory Projections, which include CARB and District emissions inventory data for stationary and area sources. The mobile source emissions inventory was based on CARB's draft EMFAC 2007 Version 2.3 emission model for on-road motor vehicles and CARB's draft OFFROAD 2007 model for off-road sources.

Based on our review of the documentation submitted, EPA concludes that the attainment inventory has been developed for the appropriate season of an acceptable attainment year, is comprehensive and based on appropriate factors and methods, and is thus acceptable for the purposes of a section 110(a)(1) ozone maintenance plan.

2. Maintenance Demonstration

The key element of a section 110(a)(1) ozone maintenance plan is a demonstration of how the area will remain in compliance with the 8-hour ozone standard for the 10-year period following the effective date of designation as unclassifiable/attainment. The end projection year is 10 years from the effective date of the 8-hour attainment designation, which for the Monterey Bay Area was June 15, 2004. Therefore, this plan must demonstrate attainment through year 2014. See Wegman Memorandum at 4.

The typical method that areas have used in the past to demonstrate an area will maintain the 1-hour ozone standard has been to identify the level of ozone precursor emissions in the area which is sufficient to attain the NAAQS and to then show that future emissions of ozone precursors will not exceed the attainment levels. To perform this analysis, for the 8-hour maintenance plan, the State must develop emissions inventories for the attainment year and for the projection year. See Wegman Memorandum at 4.

Additionally, because the plan must demonstrate maintenance throughout the applicable 10-year period, not just in the projection year, the State must develop an emissions inventory for an interim year between the attainment inventory year and the projection inventory year to show a trend analysis for maintenance of the standard. See Wegman Memorandum at 5.

The Monterey Maintenance Plan includes emissions inventories of ozone precursors for interim years (every year from 2005 through 2014), and the projection year (2014). To develop the emissions projections for the future years, Monterey Bay continued the declining trend forward based on historical trends in the inventory. The reductions in emissions are attributed to stationary and mobile source measures adopted and implemented throughout the Monterey Bay Area and California. These measures include statewide mobile source measures and the District's prohibitory regulations for stationary source operations, such as solvents and coating operations and petroleum production and processing. See MBUAPCD Agency-wide SIP regulations at http://yosemite.epa.gov/R9/r9sips.nsf/Agency?ReadForm&count=500&state=California&cat=Monterey+Bay+Unified+APCD-Agency-Wide+Provisions.

As noted above, Monterey Bay's inventory is based on CARB's Version 1.06 8-hour Ozone SIP Emission Inventory Projections, which include CARB and District emissions inventory data for stationary and area sources. The mobile source emissions inventory was based on CARB's draft EMFAC 2007 Version 2.3 emission model for on-road motor vehicles and CARB's draft OFFROAD 2007 model for off-road sources. EPA has concluded that these inventory projections are comprehensive, based on appropriate factors and methods, and thus acceptable for the purposes of a section 110(a)(1) ozone maintenance plan.

3. Ambient Air Quality Monitoring

Generally, EPA determines whether an area's air quality is meeting the NAAQS based upon data gathered at established State and local air monitoring stations (SLAMS) and national air monitoring sites (NAMS) and entered into the Air Quality Systems (AQS) database. Data entered into AQS has been determined to meet Federal monitoring requirements (see 40 CFR part 50.6; 40 CFR part 50, appendix J; 40 CFR part 53; 40 CFR part 58, appendices A and B) and may be used to determine the attainment status of areas. We also take into account data from other air monitoring stations, such as Special Purpose Monitors (SPMs), if the data is collected using a Federal reference method or Federal equivalent method, unless the air monitoring agency demonstrates that the data came from a particular period during which EPA requirements concerning quality assurance, methods, or siting criteria were not met in practice. See 71 FR 61236, at 61302 (October 17, 2006) and 40 CFR 58.20. EPA reviews all data to determine the area's air quality status in accordance with 40 CFR part 50, appendix I.

On May 5, 2008, EPA approved the District's Annual Network Plan submitted on July 1, 2007 for ozone monitoring stations, based on a determination that the MBUAPCD's ozone monitoring network met the applicable requirements of 40 CFR Part 58. See 2006 Ambient Air Monitoring Network Plan submitted on July 1, 2007, and Letter dated May 5, 2008, from EPA Region 9 (Sean Hogan) to MBUAPCD (Douglas Quetin) approving MBUAPCD's 2006 Ambient Air Monitoring Network Plan.

The State should continue to operate air quality monitors in accordance with 40 CFR part 58 to verify maintenance of the 8-hour ozone standard in the area. Monterey Bay currently monitors ozone at nine locations. In the Ozone Maintenance Plan, the District commits to continue operating an appropriate ozone monitoring network in accordance with the requirements of 40 CFR part 58 to verify the attainment status of the area. See Ozone Maintenance Plan at 6.

4. Verification of Continued Attainment

A Section 110(a)(1) ozone maintenance plan should indicate how the State will track the progress of the maintenance plan. This is necessary due to the fact that emissions projections made for the maintenance demonstration depend on assumptions of point, area, and mobile source activity and turn-over rates. One option for tracking the progress of the maintenance demonstration would be for the State to periodically update the emissions inventory. See Wegman Memorandum at 5.

To ensure continued attainment, the District commits to continue ambient monitoring and to periodically update the emissions inventory. More specifically, the stationary source emission inventory is updated annually; the mobile source inventory is updated every two years or as updates to the mobile source emissions models (EMFAC and OFFROAD) issued by CARB; and the entire inventory and forecasts, including stationary, area, and mobile categories, are updated by the CARB and District every three years. See Ozone Maintenance Plan at 11.

5. Contingency Plan

EPA's Phase 1 Implementation Rule requires section 110(a)(1) maintenance plans to include contingency provisions to promptly correct any violation of the ozone NAAQS that occurs. Generally, contingency plans should clearly identify measures to be adopted, a schedule and procedure for adoption and implementation, and a specific timeline for action by the State. Also, the State should identify specific indicators or triggers, which will be used to determine when the contingency measures need to be implemented. See Calcagni Memorandum at 12, 13.

The Monterey Maintenance Plan includes a contingency plan that establishes two elements: Contingency triggers, which would be used to implement measures should air quality in the area approach the level of the Federal standard; and contingency measures, which are templates for adoption of future rules.

Monterey Bay's contingency triggers have two components: An inventory trigger and an ambient trigger, which can both be activated prior to the area violating the standard. The inventory trigger is designed to prevent emissions from exceeding the levels identified in the 2002 Maintenance Inventory. This trigger would be met if emissions are forecast to reach 95% of the levels in the Maintenance Inventory. Based on the current inventory, this threshold would be 90.4 tons per day for VOC and 79.1 tons per day for NOX.

The second contingency trigger, the ambient trigger, was developed based on a review of historical air monitoring data. This trigger would be met if the average of the fourth highest annual concentration for the two most recent years of complete data from the highest station reached 0.085 ppm or higher. Implementation of the contingency plan would be discontinued if ambient air monitoring data for the third year indicated the area would not violate the standard.

Monterey has 16 contingency measures, 2 of which are based on locally adopted rules that would require rule revision, while the remaining 14 require adoption of new rules.

The following measures require revisions to locally adopted rules: (1) Fixed and Floating Roof Petroleum Storage Tanks (District Rule 417)—requires tight-fitting secondary seals on most floating-roof storage tanks which will exert a pressure of 30 psi on the wall of the tank. Estimated control efficiency is about 75% and the cost-effectiveness is $15,000 to $50,000 per ton reduced. (2) Metal Parts and Products (District Rule 434)—reduction of VOC emissions from coating of metal parts and products. Estimated control efficiency is 30% and cost effectiveness is $5,000 to $20,000 per ton reduced.

6. Conclusion

Based on our review of the submitted plan, we are approving the Monterey Maintenance Plan as a revision to the Monterey Bay portion of the California SIP. In so doing, we find that the Monterey Maintenance Plan, submitted to EPA by CARB on December 19, 2007, satisfies the requirements of CAA section 110(a)(1) and EPA's Phase 1 Implementation Rule.

IV. Final Action and Request for Comment

Under section 110(k) of the Clean Air Act, EPA is approving a revision to the Monterey Bay portion of the California SIP that was submitted to EPA on December 19, 2007 and that consists of the 2007 Federal Maintenance Plan for the Monterey Bay Region 8-Hour Ozone Attainment Area “Monterey Maintenance Plan” or “Ozone Maintenance Plan”. As described in more detail above, we are approving the Monterey Bay Ozone Maintenance Plan because we find that it provides for continued attainment of the 8-hour ozone standard in the Monterey Bay Area through the year 2015 and thereby satisfies the related requirements under section 110(a)(1) of the Clean Air Act and EPA's Phase 1 Implementation Rule. Our approval of the Monterey Maintenance Plan as a revision to the California SIP makes the commitments included therein, such as those related to ambient air quality monitoring, verification of continued attainment, and the contingency plan, Federally enforceable.

EPA is publishing this rule without prior proposal because we view this as a non-controversial action and anticipate no adverse comments. However, in the proposed rules section of this Federal Register publication, we are publishing a separate document that will serve as the proposal to approve the SIP revision if relevant adverse comments are received. This rule will be effective on February 16, 2010 without further notice unless we receive adverse comments by January 19, 2010. If we receive adverse comments, we will publish a timely withdrawal in the Federal Register informing the public that the rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 16, 2010. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Authority: 42 U.S.C. 7401 et seq.

Dated: November 6, 2009.
Jane Diamond,
Acting Regional Administrator, Region IX.

Chapter I, title 40 of the Code of Federal Regulations is amended as follows:

PART 52—[AMENDED]

1. The authority citation for Part 52 continues to read as follows:

Authority: 42 U.S.C. 7401 et seq.

Subpart F—California

2. Section 52.220 is amended by adding paragraph (c)(367) to read as follows:

§ 52.220 Identification of plan.

* * * * *

(c) * * *

(367) The following plan was submitted on December 19, 2007, by the Governor's Designee.

(i) [Reserved]

(ii) Additional material.

(A) Monterey Bay Unified Air Pollution Control District (MBUAPCD).

(1) 2007 Federal Maintenance Plan for Maintaining the National Ozone Standard in the Monterey Bay Region (Monterey Maintenance Plan), excluding Appendix A.

(2) MBUAPCD Board of Directors Certified Minutes and Resolution dated March 21, 2007, adopting the Monterey Maintenance Plan.

(3) Letter dated May 10, 2007, from Association of Monterey Bay Area Governments (AMBAG) to MBUAPCD, confirming AMBAG's approval of the Monterey Maintenance Plan on May 9, 2007.

(4) California Air Resources Board Executive Order # G-07-68, dated December 19, 2007, adopting the Monterey Maintenance Plan.

* * * * *

3. Section 52.282 is amended by adding paragraph (b) to read as follows:

§ 52.282 Control strategy and regulations: Ozone

* * * * *

(b) Approval. On December 19, 2007, the California Air Resources Board submitted a maintenance plan for the 1997 8-hour ozone NAAQS for the Monterey Bay Area as required by section 110(a)(1) of the Clean Air Act, as amended in 1990, and 40 CFR 51.905(a)(4). Elements of the section 110(a)(1) maintenance plan for ozone include a base year (2002) attainment emissions inventory for ozone, a demonstration of maintenance of the ozone NAAQS with projected emissions inventories through the year 2014 for ozone, a plan to verify continued attainment, and a contingency plan. The maintenance plan meets the Federal requirements of Clean Air Act section 110(a)(1) and 40 CFR 51.905(a)(4) and is approved as a revision to the California State Implementation Plan for the above mentioned area.

[FR Doc. E9-29891 Filed 12-16-09; 8:45 am]

BILLING CODE 6560-50-P